DEPARTMENT OF ENERGY

Federal Energy Regulatory Commission

Combined Notice of Filings #2

Take notice that the Commission received the following electric corporate filings:

Docket Numbers: EC19-111-000.

Applicants: DTE Electric Company, Heritage Stoney Corners Wind Farm I, LLC.

Description: Application for Authorization Under Section 203 of the Federal Power Act, et al. of DTE Electric Company, et al.

Filed Date: 7/3/19.

Accession Number: 20190703-5103.

Comments Due: 5 p.m. ET 7/24/19.

Take notice that the Commission received the following electric rate filings:

Docket Numbers: ER15-1883-005; ER10-1852-027; ER10-1890-011; ER10-1951-013; ER10-1962-011; ER10-1989-011; ER11-2160-011; ER11-2192-013; ER11-3635-011; ER11-4462-034; ER11-4677-012; ER11-4678-012; ER12-2444-011; ER12-631-013; ER12-676-010; ER13-1991-010; ER13-1992-010; ER13-2112-007; ER15-1016-005; ER15-1375-005; ER15-1418-005; ER15-2243-003; ER15-2477-005; ER16-2443-002; ER16-632-003; ER16-90-005; ER16-91-005; ER17-196-002; ER17-2340-002; ER17-582-003; ER17-583-003; ER17-822-003; ER17-823-003; ER17-838-009; ER18-1978-002; ER18-241-002; ER18-772-002; ER18-807-002; ER19-1392-002.

Applicants: Adelanto Solar, LLC, Adelanto Solar II, LLC, Blythe Solar II, LLC, Blythe Solar 110, LLC, Casa Mesa Wind, LLC, Desert Sunlight 250, LLC, Desert Sunlight 300, LLC, Florida Power & Light Company, FPL Energy Green Power Wind, LLC, FPL Energy Montezuma Wind, LLC, Genesis Solar, LLC, Golden Hills Interconnection, LLC, Golden Hills North Wind, LLC, Golden Hills Wind, LLC, Hatch Solar Energy Center I, LLC, High Lonesome Mesa Wind, LLC, High Winds, LLC, Luz Solar Partners Ltd., III, Luz Solar Partners Ltd., IV, Luz Solar Partners Ltd., V, McCoy Solar, LLC, New Mexico Wind, LLC, NextEra Blythe Solar Energy Center, LLC, NextEra Energy Montezuma II Wind, LLC, NextEra Energy Marketing, LLC, NEPM II, LLC, NextEra Energy Services Massachusetts, LLC, North Sky River Energy, LLC, Perrin Ranch Wind, LLC, Pima Energy Storage System, LLC, Pinal Central Energy Center, LLC, Red Mesa Wind, LLC, Shafter Solar, LLC, Silver State Solar Power South, LLC, Sky River LLC, Vasco Winds, LLC, Westside Solar, LLC, Whitney Point Solar, LLC, Windpower Partners 1993, LLC.

Description: Triennial Market Power Update for the Southwest Region of NextEra Companies.

Filed Date: 7/1/19

Accession Number: 20190701-5421.

Comments Due: 5 p.m. ET 8/30/19.

Docket Numbers: ER19-1427-001.

Applicants: Alabama Power Company.

Description: Compliance filing: Southern Companies' ROE Settlement Compliance Filing to be effective 1/1/2019.

Filed Date: 7/3/19.

Accession Number: 20190703-5135.

Comments Due: 5 p.m. ET 7/24/19.

Docket Numbers: ER19-1803-001.

Applicants: North Rosamond Solar, LLC.

Description: Tariff Amendment: Amendment Filing to May 8, 2019 MBR Filing to be effective 5/9/2019.

Filed Date: 7/3/19.

Accession Number: 20190703-5011.

Comments Due: 5 p.m. ET 7/24/19.

Docket Numbers: ER19-2351-000.

Applicants: American Transmission Systems, Incorporated, PJM Interconnection, L.L.C.

Description: § 205(d) Rate Filing: ATSI submits two ECSAs, Service Agreement Nos. 5322 and 5323 to be effective 9/6/2019.

Filed Date: 7/3/19.

Accession Number: 20190703-5045.

Comments Due: 5 p.m. ET 7/24/19.

Docket Numbers: ER19-2352-000.

Applicants: Massachusetts Electric Company.

Description: § 205(d) Rate Filing: Filing of Small Generator Interconnection Agmt with Gas Recovery Systems, LLC to be effective 7/1/2019.

Filed Date: 7/3/19.

Accession Number: 20190703-5058.

Comments Due: 5 p.m. ET 7/24/19.

Docket Numbers: ER19-2353-000.

Applicants: Midcontinent Independent System Operator, Inc.

Description: § 205(d) Rate Filing: 2019-07-03_SA 3327 ATC-WPSC PCA (Packaging) to be effective 9/2/2019.

Filed Date: 7/3/19.

Accession Number: 20190703-5064.

Comments Due: 5 p.m. ET 7/24/19.

Docket Numbers: ER19-2354-000.

Applicants: Southern California Edison Company.

Description: § 205(d) Rate Filing: Letter Agreement with Silverstrand Grid, LLC to be effective 7/5/2019.

Filed Date: 7/3/19.

Accession Number: 20190703-5095.

Comments Due: 5 p.m. ET 7/24/19.

Docket Numbers: ER19-2355-000.

Applicants: Southwestern Public Service Company.

Description: § 205(d) Rate Filing: SPS-GSEC-NPEC IA Pringle NDP-712-SPS 0.0.0 to be effective 7/4/2019.

Filed Date: 7/3/19.

Accession Number: 20190703-5096.

Comments Due: 5 p.m. ET 7/24/19.

Docket Numbers: ER19-2356-000.

Applicants: PSEG Energy Resources & Trade LLC.

Description: Tariff Cancellation: Cancelation of Keystone and Conemaugh 1 & 2 to be effective 12/31/9998.

Filed Date: 7/3/19.

Accession Number: 20190703-5098.

Comments Due: 5 p.m. ET 7/24/19.

Docket Numbers: ER19-2357-000.

Applicants: Alabama Power Company.

Description: § 205(d) Rate Filing: Quitman II Solar LGIA Filing to be effective 6/21/2019.

Filed Date: 7/3/19.

Accession Number: 20190703-5099.

Comments Due: 5 p.m. ET 7/24/19.

Docket Numbers: ER19-2358-000.

Applicants: DTE Electric Company, Heritage Stoney Corners Wind Farm I, LLC.

Description: Expedited Request for Authorization to Engage in Affiliate Transactions, et al. of DTE Electric Company, et al.

Filed Date: 7/3/19.

Accession Number: 20190703-5101.

Comments Due: 5 p.m. ET 7/24/19.

Docket Numbers: ER19-2359-000.

Applicants: National Grid Generation LLC.

Description: § 205(d) Rate Filing: Annual Reset of Pension and OPEB Expenses to be effective 1/1/2019.

Filed Date: 7/3/19.

Accession Number: 20190703-5114.

Comments Due: 5 p.m. ET 7/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2019.
Kimberly D. Bose,
Secretary.

[FR Doc. 2019-14670 Filed 7-9-19; 8:45 am]

BILLING CODE 6717-01-P